DEPARTMENT OF HEALTH AND HUMAN SERVICES

National Institutes of Health

National Institute of Allergy and Infectious Diseases; Amended Notice of Meeting

Notice is hereby given of a change in the meeting of the AIDS Research Advisory Committee, NIAID, September 16, 2008, 8:30 a.m. to September 17, 2008, 5 p.m., National Institutes of Health, Natcher Building, 45 Center Drive, Conference Rooms E1/E2, Bethesda, MD 20892 which was published in the Federal Register on August 25, 2008, 73 FR N50049.

The meeting will now discuss the post-NIAID Vaccine Summit activities and plans, and to initiate dicussions and obtain advice pertaining to the use of the nonhuman primate model for AIDS vaccine research. The meeting is open to the public.

Dated: September 2, 2008.
Jennifer Spaeth,
Director, Office of Federal Advisory Committee Policy.

[FR Doc. E8-20835 Filed 9-8-08; 8:45 am]

BILLING CODE 4140-01-M